ENVIRONMENTAL PROTECTION AGENCY

[FRL-8312-4]

Establishment of the Human Impacts of Climate Change Advisory Committee (HICCAC)

AGENCY: Environmental Protection Agency (EPA).

ACTION: Notice of establishment of a Federal Advisory Committee.

SUMMARY: As required by section 9(a)(2) of the Federal Advisory Committee Act, we are giving notice that EPA is establishing the Human Impacts of Climate Change Advisory Committee (HICCAC). The purpose of this Committee is to provide advice on the conduct of a study titled “Analyses of the effects of global change on human health and welfare and human systems” to be conducted as part of the U.S. Climate Change Science Program (CCSP). This assessment is part of a comprehensive set of assessments identified in the CCSP's Strategic Plan. HICCAC will advise on the specific issues that should be addressed in the assessment, appropriate technical approaches, the nature of information relevant to decision makers, the content of the assessment report, and other scientific and technical matters that may be found to be important to the successful completion of the study. EPA has determined that this federal advisory committee is in the public interest and will assist the Agency in performing its duties under the Clean Water Act, Clean Air Act, and the Global Climate Protection Act. The draft prospectus for the study is on the CCSP Web site at http://www.climatescience.gov/Library/sap/sap4-6/sap4-6prospectus-final.htm.

Copies of the Committee Charter will be filed with the appropriate congressional committees and the Library of Congress.

FOR FURTHER INFORMATION CONTACT: Joanna Foellmer (8601D), National Center for Environmental Assessment, Immediate Office, Office of Research and Development, Environmental Protection Agency, 1200 Pennsylvania Avenue, NW., Mail Code 8601D; Washington, DC 20460, Telephone number (202) 564-3208, E-mail address: Foellmer.joanna@epa.gov.

SUPPLEMENTARY INFORMATION:

I. Information About the Document

A copy of the Committee Charter will be available at http://www.fido.gov/facadatabase/ after the Committee Charter is filed with Congress. This usually takes up to 25 days from the date of the Federal Register notice. The purpose of the Committee is to provide advice on the conduct of a study titled “Analyses of the effects of global change on human health and welfare and human systems” to be conducted as part of the U.S. Climate Change Science Program (CCSP). This study will give particular attention to the impacts of climate change on human health, human welfare, and human settlements in the United States. Within the context of the assessment's prospectus, HICCAC will advise on the specific issues to be addressed, appropriate technical approaches, the nature of information relevant to decision makers, the content of the final assessment report, compliance with the Information Quality Act, and other matters important to the successful achievement of the objectives of the study. The draft prospectus for this study is available at: http://www.climatescience.gov/Library/sap/sap4-6/sap4-6prospectus-final.htm.

HICCAC is expected to meet twice in 2007: once in a face-to-face meeting in the Washington, DC area and a second time via conference call.

Membership: Nominations for membership on the HICCAC were solicited through the Federal Register. In selecting members, EPA will consider the necessary areas of technical expertise, different scientific perspectives within each technical discipline, and the collective breadth of experience needed to address the Agency's charge.

Dated: March 22, 2007.
George Gray,
Assistant Administrator, Office of Research and Development.

[FR Doc. E7-9023 Filed 5-9-07; 8:45 am]

BILLING CODE 6560-50-P